DEPARTMENT OF COMMERCE

International Trade Administration

A-570-904

Certain Activated Carbon from the People's Republic of China: Extension of Time Limits for Preliminary Results of the Antidumping Duty Administrative Review

AGENCY: Import Administration, International Trade Administration, Department of Commerce.

EFFECTIVE DATE: November 26, 2008.

FOR FURTHER INFORMATION CONTACT: Julia Hancock, AD/CVD Operations, Office 9, Import Administration, International Trade Administration, U.S. Department of Commerce, 14th Street and Constitution Avenue, NW, Washington DC 20230; telephone: (202) 482-1394.

SUPPLEMENTARY INFORMATION:

Background

On June 4, 2008, the Department of Commerce (“the Department”) published a notice of initiation of an administrative review of the antidumping duty order on certain activated carbon from the People's Republic of China (“PRC”) covering the period October 11, 2006, through March 31, 2008. See Initiation of Antidumping and Countervailing Duty Administrative Reviews and Requests for Revocation in Part, 73 FR 31813 (June 4, 2008).

On August 5, 2008, the Department selected three mandatory respondents in the above-referenced administrative review pursuant to section 777A(c)(2)(B) of the Tariff Act of 1930, as amended (“the Act”). See Memorandum to James C. Doyle, Director, Office 9, from Paul Walker, Senior Case Analyst, RE: Antidumping Duty Administrative Review of Certain Activated Carbon from the People's Republic of China: Selection of Respondents for Individual Review (August 5, 2008).

On October 14, 2008, because one of the three original mandatory respondents notified the Department that it would not participate in the above-referenced administrative review, the Department selected an additional company as a voluntary respondent pursuant to section 782(a) of the Act. See Memorandum to James C. Doyle, Director, Office 9, from Julia Hancock, Senior Case Analyst, RE: Antidumping Duty Administrative Review of Certain Activated Carbon from the People's Republic of China: Selection of Voluntary Respondent (October 14, 2008). The preliminary results of this administrative review are currently due on December 31, 2008.

Statutory Time Limits

Section 751(a)(3)(A) of the Act requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The Department determines that completion of the preliminary results of the administrative review within the original time period is not practicable. This administrative review covers two mandatory respondents and one voluntary respondent, and to conduct the sales and factor analyses for each company and their numerous suppliers requires the Department to gather and analyze a significant amount of information pertaining to each respondent's sales practices and manufacturing methods. Moreover, the Department requires additional time to analyze complicated affiliation issues.

Therefore, in accordance with section 751(a)(3)(A) of the Act, the Department is extending the time limit for issuing the preliminary results by 120 days until April 30, 2009. The final results continue to be due 120 days after the publication of the preliminary results.

This notice is published pursuant to sections 751(a)(3)(A) and 777(i)(1) of the Act and 19 CFR 351.213(h)(2).

Dated: October 24, 2008.
Stephen J. Claeys,
Deputy Assistant Secretary for Import Administration.

[FR Doc. E8-28196 Filed 11-25-08; 8:45 am]

BILLING CODE: 3510-DS-S